FEDERAL COMMUNICATIONS COMMISSION

47 CFR Part 73

[DA 23-262; MB Docket No. 22-373; RM-11933; FR ID 134378]

Radio Broadcasting Services; South Padre Island, Texas

AGENCY: Federal Communications Commission.

ACTION: Final rule.

SUMMARY: This document amends the FM Table of Allotments, of the Commission's rules, by adding Channel 288A at South Padre Island, Texas. A staff engineering analysis indicates that Channel 288A can be allotted to South Padre Island, Texas, consistent with the minimum distance separation requirements of the Commission's rules (Rules), with a site restriction of 11 km (7 miles) south of the community. The reference coordinates are 26-01-30 NL and 97-09-15 WL.

DATES: Effective May 12, 2023.

FOR FURTHER INFORMATION CONTACT: Rolanda F. Smith, Media Bureau, (202) 418-2700.

SUPPLEMENTARY INFORMATION: This is a synopsis of the Federal Communications Commission's (Commission) Report and Order, adopted March 28, 2023 and released March 28, 2023. The full text of this Commission decision is available online at https://apps.fcc.gov/ecfs/. This document does not contain information collection requirements subject to the Paperwork Reduction Act of 1995, Public Law 104-13.

The Report and Order in this proceeding substituted Channel 288A for vacant Channel 237A at South Padre Island, Texas to accommodate the hybrid modification application for Station KRIX(FM), Port Isabel, Texas resulting in the public interest because it would enhanced service for Station KRIX(FM), Port Isabel, Texas. Channel 237A at South Padre Island, Texas is not currently listed in the FM Table of Allotments but is considered a vacant allotment resulting from the license cancellation of FM station DKZSP, Fac. ID No. 56473, South Padre Island, Texas. The Commission will send a copy of this Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b), under Texas, by adding in alphabetical order an entry for “South Padre Island” to read as follows:

§ 73.202 Table of Allotments.

* * * * *

(b) * * *

Table 1 to Paragraph (b)
U.S. States | Channel No.
Texas
* * * * *
South Padre Island | 288A
* * * * *

* * * * *

[FR Doc. 2023-06780 Filed 3-31-23; 8:45 am]

BILLING CODE 6712-01-P